DEPARTMENT OF HOMELAND SECURITY

Coast Guard

33 CFR Part 100

[Docket Number USCG-2025-0039]

RIN 1625-AA08

Special Local Regulation; Sail Grand Prix, Upper Bay, New York City, NY

AGENCY: Coast Guard, Department of Homeland Security (DHS).

ACTION: Temporary final rule.

SUMMARY: The Coast Guard is establishing a special local regulation in the Upper Bay of New York Harbor in support of a racing event, Sail Grand Prix 2025. This special local regulation is necessary to provide for the safety of life from the dangers associated with high-speed sailing during the event. This rule will temporarily prohibit persons and vessels from entering, transiting through, blocking, or loitering within the event area, unless authorized by the Captain of the Port, Sector New York or a designated representative.

DATES: This rule is effective from 12:45 p.m. on June 5, 2025, through 5:30 p.m. on June 8, 2025. It will only be subject to enforcement, however, during the hours of 12:45 p.m. to 4 p.m. on June 5, 2025, and June 6, 2025, and from 2 p.m. to 5:30 p.m. on June 7, 2025, and June 8, 2025.

ADDRESSES: To view documents mentioned in this preamble as being available in the docket, go to https://www.regulations.gov, type USCG-2025-0039 in the search box and click “Search.” Next, in the Document Type column, select “Supporting & Related Material.”

FOR FURTHER INFORMATION CONTACT: If you have questions about this rule, call or email MST1 Kathryn Veal, Waterways Management Division, U.S. Coast Guard Sector New York; telephone 718-354-4151, email Kathryn.M.Veal@uscg.mil.

SUPPLEMENTARY INFORMATION:

I. Table of Abbreviations

CFR Code of Federal Regulations

COTP Captain of the Port

DHS Department of Homeland Security

FR Federal Register

NPRM Notice of proposed rulemaking

Sail GP Sail Grand Prix

§ Section

SLR Special Local Regulation

U.S.C. United States Code

II. Background Information and Regulatory History

As an organized water event of limited duration which is conducted according to a prearranged schedule, Sail Grand Prix (Sail GP) is a “Regatta or marine parade,” as defined at 33 CFR 100.05. An individual or organization planning to hold a regatta or marine parade which, by its nature, circumstances or location, will introduce extra or unusual hazards to the safety of life on the navigable waters of the United States, must submit an application to hold it as outlined in 33 CFR 100.15. On December 5, 2024, a representative of Sail GP submitted an application under 33 CFR 100.15 to conduct Sail GP 2025 in the Upper Bay of New York Harbor for approximately four hours each day from June 5, 2025, through June 8, 2025. The event will take place between Governors Island, Ellis Island, and Liberty Island in the Upper Bay, and it will feature 50-foot foiling catamaran sailboats.

After approving plans for the holding of a regatta or marine parade within his or her district or zone, a Captain of the Port (COTP) is authorized to promulgate such special local regulations as he or she deems necessary to ensure safety of life on the navigable waters immediately prior to, during, and immediately after the approved regatta or marine parade as outlined in 33 CFR 100.35. Due to the high-profile nature of this event, spectator vessels and support craft that will be present and will have the potential to cause vessel congestion in proximity of the Anchorage Channel and the Hudson River. The COTP, Sector New York has determined that potential hazards associated with the race and race location are a safety concern for anyone within the race area and adjacent navigable waters and is therefore establishing these special local regulations.

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impractical to do so due to insufficient time to publish a final rule by June 5, 2025.

Under 5 U.S.C. 553(d)(3), the Coast Guard finds that good cause exists for making this rule effective less than 30 days after publication in the Federal Register. Delaying the effective date of this rule would be impracticable and contrary to public interest because the rule must be in effect by June 5, 2025, to serve its intended purpose.

III. Legal Authority and Need for Rule

The Coast Guard is issuing this rule under authority in 46 U.S.C. 70041. The COTP has determined that this rule is needed to protect personnel, vessels, and the marine environment from the hazards associated with the race event.

IV. Discussion of the Rule

The Coast Guard is establishing a special local regulation in the Upper Bay of New York Harbor for approximately four hours each day from June 5, 2025, through June 8, 2025. In the event that weather conditions prevent or delay a safe race start, the public will be notified of changes to the enforcement period through marine broadcasts, local notice to mariners, local news media, distribution in leaflet form, or by on-scene designated representatives. The areas regulated by this special local regulation lie between Governors Island, Ellis Island, and Liberty Island and cover all navigable waters, from surface to bottom, as more specifically defined below. The Sail GP sponsor will mark the regulated area via colored visual markers and will designate a spectator area within the regulated area. The spectator area will be located on the northern end of the regulated area and will change depending upon the racecourse. The duration of the enforcement times is intended to ensure the safety of vessels, participants, and spectators, and those transiting the area during the scheduled practice and race periods. This special local regulation will temporarily restrict vessel traffic in the vicinity of Liberty Island and Ellis Island and prohibit vessels and persons not participating in the race event from entering the dedicated race area. The Coast Guard will provide notice of the special local regulation through marine broadcasts, local notice to mariners, local news media, distribution in leaflet form, or by on-scene designated representatives.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

This regulatory action determination is based on the special local regulation's size, location, and duration. Vessel traffic will be able to safely transit around the regulated area via the Buttermilk Channel and via a transit lane west of the race area. The event will impact a small, designated area of the New York Harbor for less than four hours each day. Considerations were made to adjust to an earlier time for Thursday, June 5, 2025, and Friday, June 6, 2025, so as to reduce the impact of the special local regulation on commuter ferries. Moreover, the Coast Guard will issue notice of the special local regulation through marine broadcasts, local notice to mariners, local news media, distribution in leaflet form, or by on-scene designated representatives, and the rule will allow vessels to seek permission to enter.

B. Impact on Small Entities

The regulatory flexibility analysis provisions of the Regulatory Flexibility Act of 1980, 5 U.S.C. 601-612, do not apply to rules not subject to notice and comment. As the Coast Guard has, for good cause, waived the notice and comment requirement that would otherwise apply to this rulemaking, the Regulatory Flexibility Act's flexibility analysis provisions do not apply here.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f) and have determined that this action is one of a category of actions that do not individually or cumulatively have a significant effect on the human environment. This rule involves a special local regulation lasting less than four hours that will limit entry to the race area without authorization from the COTP or their designated representatives. It is categorically excluded from further review under paragraph L61 of Appendix A, Table 1 of DHS Instruction Manual 023-01-001-01, Rev. 1. A Record of Environmental Consideration supporting this determination is available in the docket. For instructions on locating the docket, see the ADDRESSES section of this preamble.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T01-0039 to read as follows:

§ 100.T01-0039 Sail Grand Prix 2025, Upper Bay New York Harbor, New York City, NY.

(a) Regulated area. The regulations in this section apply to the following area: All waters of the Upper Bay of New York Harbor, from surface to bottom, encompassed by a line connecting the following points beginning at 40°41′49.7″ N 74°02′01.7″ W; thence to 40°41′49.7″ N 74°01′23.6″ W; thence to 40°41′43.1″ N 74°01′09.0″ W; thence to 40°41′35.6″ N 74°01′08.8″ W; thence along the shore to 40°41′02.4″ N 74°01′29.3″ W; thence to 40°40′47.8″ N 74°01′43.2″ W; thence to 40°40′38.5″ N 74°02′00.4″ W; thence to 40°40′38.9″ N 74°02′45.0″ W; thence to 40°41′02.0″ N 74°02′24.7″ W; thence to 40°41′13.1″ N 74°02′24.4″ W; thence to 40°41′35.8″ N 74°02′15.6″ W and thence back to the point of origin. Positions provided are expressed in Degrees (°) Minutes (′) Seconds (″) (DMS) based on North American Datum 1983 (NAD 83).

(b) Definitions. As used in this section—

Designated representative means a Coast Guard Patrol Commander, including a Coast Guard coxswain, petty officer, or other officer operating a Coast Guard vessel and a Federal, State, and local officer designated by or assisting the Captain of the Port New York (COTP) in the enforcement of the regulations in this section.

Participant means all persons and vessels registered with the event sponsor as a participant in the race.

Spectator means any person or vessel, which is not designated by the sponsor as a support vessel, in the vicinity of the event with the primary purpose of witnessing the event. Spectator vessels can observe the marine event from the designated spectator area.

(c) Regulations. (1) All non-participants and non-spectators are prohibited from entering, transiting through, anchoring in, or remaining within the regulated area described in paragraph (a) of this section unless authorized by the Captain of the Port New York (COTP) or their designated representative.

(2) To seek permission to enter, contact the COTP or the COTP's representative by VHF-FM Channel 16. Those in the regulated area must comply with all lawful orders or directions given to them by the COTP or the designated representative.

(3) The COTP will provide notice of the regulated area through marine broadcasts, local notice to mariners, local news media, distribution in leaflet form, or by on-scene designated representatives.

(d) Enforcement period. (1) This section will be enforced from 12:45 p.m. to 4 p.m. on June 5, 2025, and June 6, 2025, and from 2 p.m. to 5:30 p.m. on June 7, 2025, and June 8, 2025.

(2) In the event that weather conditions prohibit a safe race start or cause delays, the public will be notified of changes to the enforcement period as described in paragraph (d)(1) through marine broadcasts, local notice to mariners, local news media, distribution in leaflet form, or by on-scene designated representatives.

Jonathan Andrechik,
Captain, U.S. Coast Guard, Captain of the Port, Sector New York.

[FR Doc. 2025-10382 Filed 6-4-25; 4:15 pm]

BILLING CODE 9110-04-P